NUCLEAR REGULATORY COMMISSION

[NRC-2008-0500]

Proposed Revisions to the License Renewal Interim Staff Guidance Process and Regulatory Issue Summary 2007-16; Request for Public Comment

AGENCY: Nuclear Regulatory Commission (NRC).

ACTION: Request for public comment.

SUMMARY: The NRC requests public comment on a proposed draft License Renewal Interim Staff Guidance (LR-ISG) Process, Revision 1. This draft incorporates changes to the existing LR-ISG process, dated December 12, 2003, and basic framework for developing and implementing LR-ISGs. The NRC also requests public comment on a proposed revision to NRC Regulatory Issue Summary (RIS) 2007-16. This revision clarifies the role of the LR-ISG process for including “newly identified” systems, structures, and components in accordance with § 54.37(b) of Title 10, Part 54, “Requirements for Renewal of Operating Licenses for Nuclear Power Plants,” of the Code of Federal Regulations (10 CFR 54.37(b)). The proposed revisions to the LR-ISG process and RIS are available in the NRC's Agencywide Documents Access and Management System (ADAMS), under Accession Nos. ML082180346 and ML083500028, respectively.

DATES: Comments must be filed no later than April 27, 2009. Comments received after this date will be considered, if it is practical to do so, but the NRC staff is able to ensure consideration only for comments received on or before this date.

ADDRESSES: You may submit comments by any one of the following methods. Comments submitted in writing or in electronic form will be made available to the public in their entirety on the Federal Government's rulemaking Web site http://www.regulations.gov. Personal information, such as name, address, telephone, e-mail address, etc., will not be removed from your submission.

E-mail comments to: The Federal e-Rulemaking Portal at http://www.regulations.gov; search Docket ID NRC-2008-0500.

Mail comments to: Michael Lesar, Chief, Rulemaking and Directives Branch, Mailstop TWB-05-B01M, Office of Administration, U.S. Nuclear Regulatory Commission, Washington, DC 20555-0001.

Documents created or received after November 1, 1999, are available electronically at the NRC's Public Electronic Reading Room on the Internet at http://www.nrc.gov/reading-rm/adams.html. From this site, the public can gain entry into ADAMS. If you do not have access to the Internet or if there are any problems in accessing the documents located in ADAMS, contact the NRC Public Document Room reference staff at 1-800-397-4209, 301-415-4737, or by e-mail at PDR.Resource@nrc.gov.

FOR FURTHER INFORMATION CONTACT: Mr. Matthew Homiack, Division of License Renewal, Office of Nuclear Reactor Regulation, U.S. Nuclear Regulatory Commission, Washington, DC 20555-0001; telephone 301-415-1683; or e-mail Matthew.Homiack@nrc.gov.

SUPPLEMENTARY INFORMATION: The NRC posts its issued interim staff guidance on the NRC public Web page at http://www.nrc.gov/reading-rm/doc-collections/isg. The NRC staff requests public comment on draft LR-ISG-2007-01 entitled, “License Renewal Interim Staff Guidance Process, Revision 1” (ADAMS Accession No. ML082180346). Once approved, this LR-ISG will supersede the existing process entitled, “Process for Interim Staff Guidance,” issued December 12, 2003 (ML023520620). The NRC staff is proposing revisions to this process in order to address certain recommendations made in a report issued by the NRC's Office of the Inspector General, OIG-07-A-15, “Audit of the NRC's License Renewal Program,” dated September 6, 2007 (ML072490486). The revision also extends the LR-ISG process to include certain guidance documents associated with environmental reviews for license renewal applications. These documents are NUREG-1555, “Environmental Standard Review Plan,” Supplement 1, “Operating License Renewal,” dated March 2000 (ML003702019), and NRC Regulatory Guide 4.2, Supplement 1, “Preparation of Supplemental Environmental Reports for Applications to Renew Nuclear Power Plant Operating Licenses,” dated September 2000 (ML003710495). The staff is also proposing to eliminate the previous “clarification” and “compliance” LR-ISG designations. As an alternative, the staff will document the basis for applicability of 10 CFR 54.37(b) or 10 CFR 50.109 in a proposed new backfitting discussion section of each LR-ISG. In addition, the draft LR-ISG process includes administrative changes, such as references to the NRC's organizational structure.

The NRC staff also requests public comment on a proposed revision to RIS 2007-16. The NRC staff identified the need to revise this RIS to be consistent with the revision to the LR-ISG process. This revised RIS, once approved, will supersede the original version entitled, “Implementation of the Requirements of 10 CFR 54.37(b) for Holders of Renewed Licenses,” issued August 23, 2007 (ML071080338).

The NRC staff is issuing this notice to solicit public comments on draft LR-ISG-2007-01. After the NRC staff considers any public comments, it will make a determination regarding the draft LR-ISG.

Dated at Rockville, Maryland, this 18th day of March 2009.
For the Nuclear Regulatory Commission.
Brian E. Holian,
Director, Division of License Renewal, Office of Nuclear Reactor Regulation.

[FR Doc. E9-6757 Filed 3-25-09; 8:45 am]

BILLING CODE 7590-01-P